DEPARTMENT OF THE TREASURY

Submission for OMB Review; Comment Request

August 26, 2013.

The Department of the Treasury will submit the following information collection request to the Office of Management and Budget (OMB) for review and clearance in accordance with the Paperwork Reduction Act of 1995, Public Law 104-13, on or after the date of publication of this notice.

DATES: Comments should be received on or before September 30, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Bureau of the Fiscal Service

OMB Number: 1510-0019.

Type of Review: Extension of a currently approved collection.

Title: Claim Against the United States for the Proceeds of a Government Check.

Form: FMS 1133.

Abstract: This form is used to collect information needed to process an individual's claim for non-receipt of proceeds from a U.S. Treasury check. Once the information is analyzed, a determination is made and a recommendation is submitted to the program agency to either settle or deny the claim.

Affected Public: Individuals or households.

Estimated Annual Burden Hours: 11,278.

Dawn D. Wolfgang,
Treasury PRA Clearance Officer.

[FR Doc. 2013-21084 Filed 8-28-13; 8:45 am]

BILLING CODE 4810-35-P